DEPARTMENT OF TRANSPORTATION

Federal Transit Administration

49 CFR Part 672

[Docket No. FTA-2023-0025]

RIN 2132-AB43

Public Transportation Safety Certification Training Program

AGENCY: Federal Transit Administration (FTA), Department of Transportation (DOT).

ACTION: Notice of proposed rulemaking (NPRM).

SUMMARY: The Federal Transit Administration (FTA) is proposing changes to requirements for the Public Transportation Safety Certification Training Program (PTSCTP). The Bipartisan Infrastructure Law, enacted as the Infrastructure Investment and Jobs Act (IIJA), established new requirements for FTA's Public Transportation Safety Program that relate to PTSCTP requirements. The proposed revisions would streamline the PTSCTP communication process and clarify voluntary PTSCTP participation and refresher training requirements. FTA seeks comments from project sponsors, the transit industry, unions, other stakeholders, and the public on the proposed changes to the regulation.

DATES: Comments should be filed by December 26, 2023. FTA will consider comments received after that date to the extent practicable.

ADDRESSES: You may send comments, identified by docket number FTA-2023-0025, by any of the following methods:

• Federal eRulemaking Portal: https://www.regulations.gov. Follow the instructions for sending comments.

• Fax: (202) 493-2251.

• Mail: Docket Management Facility, U.S. Department of Transportation, 1200 New Jersey Avenue SE, West Building Ground Floor, Room W12-140, Washington, DC 20590-0001.

• Hand Delivery/Courier: West Building Ground Floor, Room W12-140, 1200 New Jersey Avenue SE, Washington, DC, between 9 a.m. and 5 p.m. ET, Monday through Friday, except Federal holidays.

Instructions: All submissions received must include the agency name and docket number or Regulatory Information Number (RIN) for this rulemaking. All comments received will be posted without change to https://www.regulations.gov, including any personal information provided. For detailed instructions on sending comments and additional information on the rulemaking process, see the “Public Participation” heading of the SUPPLEMENTARY INFORMATION section of this document.

Docket: For access to the docket to read background documents or comments received, go to https://www.regulations.gov. Background documents and comments received may also be viewed at the U.S. Department of Transportation, 1200 New Jersey Ave. SE, Docket Operations, M-30, West Building Ground Floor, Room W12-140, Washington, DC 20590-0001, between 9 a.m. and 5 p.m. EST, Monday through Friday, except Federal holidays.

FOR FURTHER INFORMATION CONTACT: For program matters, contact Philip Monty, Office of Transit Safety and Oversight, (202) 366-7412 or philip.monty@dot.gov. For legal matters, contact Mark Montgomery, Office of Chief Counsel, (202) 366-1017 or mark.montgomery@dot.gov.

Office hours are from 8:30 a.m. to 5 p.m., Monday through Friday, except Federal holidays.

SUPPLEMENTARY INFORMATION:

Table of Contents

I. Executive Summary

A. Purpose of Regulatory Action

B. Statutory Authority

C. Summary of Major Provisions

D. Costs and Benefits (Table)

II. Section-by-Section Analysis

III. Regulatory Analyses and Notices

I. Executive Summary

A. Purpose of Regulatory Action

This Notice of Proposed Rulemaking (NPRM) proposes to amend the Public Transportation Safety Certification Training Program (PTSCTP) regulation at 49 CFR part 672. The proposed rule maintains the existing minimum training requirements for State Safety Oversight Agency (SSOA) employees and contractors who conduct reviews, inspections, examinations, and other safety oversight activities of public transportation systems, and employees and contractors who are directly responsible for the safety oversight of a rail fixed guideway public transportation system. The proposed rule adds administrative requirements for recipients that are subject to the requirements of the rule.

B. Statutory Authority

Congress directed FTA to establish a comprehensive Public Transportation Safety Program, one element of which is the requirement for the PTSCTP, in the Moving Ahead for Progress in the 21st Century Act (Pub. L. 112-141) (MAP-21), which was reauthorized by the Fixing America's Surface Transportation Act (Pub. L. 114-94). To implement the requirements of 49 U.S.C. 5329(c), FTA issued a final rule on July 19, 2018 that added part 672, “Public Transportation Safety Certification Training Program,” to title 49 of the Code of Federal Regulations (83 FR 34053).

The Bipartisan Infrastructure Law, enacted as the Infrastructure Investment and Jobs Act (Pub. L. 117-58) (IIJA), enhances the Public Transportation Safety Program by adding new requirements that will be addressed in the PTSCTP curriculum.

C. Summary of Major Provisions

The proposed rule would revise portions of part 672, “Public Transportation Safety Certification Training Program,” in title 49 of the Code of Federal Regulations.

In general, this rulemaking applies to all recipients of Federal financial assistance under 49 U.S.C. chapter 53. However, the mandatory requirements of this rulemaking currently apply only to SSOA employees and contractors that conduct reviews, inspections, examinations, and other safety oversight activities of rail fixed guideway public transportation systems, and employees and contractors who are directly responsible for the safety oversight of a recipient's rail fixed guideway public transportation systems. In the preamble to the 2018 final rule, FTA noted that though the regulation currently only applies to rail public transit providers, “[s]hould analysis of safety data and trends indicate increased safety risk in the bus transit industry, FTA retains authority to implement mandatory training requirements for bus transit safety oversight personnel” as well (83 FR 34053, at 34055). Accordingly, FTA seeks recipient input on whether mandatory PTSCTP participation should extend to bus transit agencies and personnel.

First, FTA proposes requiring each recipient subject to the requirements of this rulemaking to identify a single point of contact to serve as a liaison with FTA regarding PTSCTP program information, including changes in enrolled personnel, new participant enrollment, refresher training confirmation, and other administrative needs. FTA proposes requiring each SSOA and rail transit agency participating in the PTSCTP to make semiannual submissions to FTA to include confirmation of employees and contractors designated by the recipient as PTSCTP participants and the recipient's refresher training requirements. These submissions will enable FTA to effectively monitor ongoing SSOA and rail transit agency compliance with PTSCTP requirements and ensure FTA receives an agency's PTSCTP participant information on a consistent and timely basis. FTA will accept submissions via email at FTASafetyPromotion@dot.gov or via other electronic means defined by FTA.

Second, FTA proposes adding language to clarify existing processes related to PTSCTP voluntary participants. The new language addresses voluntary participant refresher training for employees and contractors of a recipient, as well as individuals not affiliated with a recipient, and clarifies that to receive a certificate of completion as a voluntary participant, individuals must complete the PTSCTP curriculum within three (3) years of their enrollment. Further, the proposed language clarifies that voluntary participants are not required to complete refresher training and that FTA will not issue renewal certificates to voluntary participants. The proposed language specifies that if a voluntary participant has received a PTSCTP certificate of completion and is subsequently designated by an SSOA or rail transit agency as a PTSCTP participant, the individual will need to complete required refresher training within two (2) years of designation.

Third, FTA proposes removing appendix A from the existing 49 CFR part 672. FTA proposes moving the SSOA requirements located in appendix A of the current rule to the body of the revised rule under subpart C. To allow for greater flexibility in addressing industry training needs, the PTSCTP curricula for mandatory and volunteer participants outlined in appendix A of the current regulation will be removed from the rule. FTA has published this information at: https://www.transportation.gov/tsi/public-transportation-safety-certification-training-program-ptsctp-certificate.

D. Benefits and Costs

The proposed rule adds administrative and training requirements for SSOAs and rail transit agencies subject to the PTSCTP. The rule would lead to increased compliance with PTSCTP requirements and cost savings for FTA staff; it would also result in increased costs for SSOAs and rail transit agencies. Table 1 summarizes the economic effects of the proposed rule over the first ten years from 2023—the assumed effective date of the rule—to 2032 in 2022 dollars. On an annualized basis, the rule would have net costs of $334,000 at a 7 percent discount rate (discounted to 2023) and $321,000 at 3 percent.

Table 1—Summary of Economic Effects, 2023-2033
[$2022, discounted to 2023]
Item | Annualized (7%) | Annualized (3%)
Benefits:
Cost savings for FTA staff | $6,317 | $6,081
Costs:
Staff enrollment | 74,034 | 71,266
Point of contact identification | 12,339 | 11,878
Point of contact responsibilities | 137,320 | 132,187
Semi-annual reporting | 24,678 | 23,755
Refresher training | 91,596 | 88,172
Total costs | 339,967 | 32,258
Net costs | 333,650 | 321,177

II. Section-by-Section Analysis

Throughout 49 CFR part 672, FTA proposes to eliminate existing references to 49 CFR part 659. This regulation was rescinded following the publication of 49 CFR part 674 (see 87 FR 6783), which defines requirements for FTA's State Safety Oversight program.

Subpart A—General Provisions

Section 672.1 Purpose

FTA does not propose changes to this section.

Section 672.3 Scope and Applicability

FTA proposes dividing paragraph (b) into two paragraphs to provide additional clarity. This change does not affect existing requirements.

FTA has provided additional detail regarding the activities that serve as applicability criteria for designated personnel of SSOAs. The revised language uses “reviews” instead of “audits” to align with SSO Program terminology. The revised language adds the term “inspections” to address the new SSOA requirements for risk-based inspections established by the Bipartisan Infrastructure Law.

Section 672.5 Definitions

FTA proposes adding a definition of “Initial training.” This definition does not impact existing requirements and has been added to provide clarity regarding training required to receive an initial PTSCTP certificate of completion.

FTA proposes adding a definition of “Public Transportation Safety Certification Training Program curriculum”. This definition does not impact existing requirements and has been added to provide clarity regarding the courses an individual must complete as a participant.

FTA proposes revising the existing definition of “Rail fixed guideway public transportation system” for clarity. The changes do not impact existing requirements.

FTA proposes adding a definition of “Rail transit agency.” This definition does not impact existing requirements and has been added to provide clarity of a rail transit agency.

FTA proposes to revise the definition of “Federal Transit Administration” to align with the definition used in other regulatory updates.

FTA proposes adding a definition of “Refresher training.” This definition is added to complement the proposed definition of “Initial training” and does not impact existing requirements.

FTA proposes adding a definition for “Safety review.” This definition has been added to clarify the term that is used in the SSOA applicability language in § 672.3(b)(1).

FTA proposes revising the definition of “Designated personnel” to include the “Safety review” language changes made to the applicability criteria and the change from the term “audits” to “reviews.”

FTA proposes adding a definition of “Voluntary participant.” This definition does not impact existing requirements and has been added to provide clarity regarding voluntary participation.

Subpart B—Training Requirements

Section 672.11 State Safety Oversight Agency Employees and Contractors Who Conduct Reviews, Inspections, Examinations, and Other Safety Oversight Activities of Rail Fixed Guideway Public Transportation Systems

This section establishes designation requirements for certain SSOA employees and contractors. FTA proposes amending existing language to provide clarity on the SSOA's responsibility for designating individuals and ensuring a designee's compliance with the applicable training requirements. These changes do not affect existing requirements.

FTA proposes requiring SSOAs to ensure that designated personnel are enrolled in the PTSCTP within 30 days of designation. The three-year deadline for completing the applicable training requirements of part 672 and the PTSCTP curriculum will be based on the participant's PTSCTP enrollment date. With this 30-day requirement, FTA is ensuring the accurate establishment of the three-year compliance deadline for designated individuals.

FTA proposes to identify refresher training requirements for designated SSOA participants in a new paragraph (d). FTA proposes maintaining the existing PTSCTP refresher training requirement for SSOA-defined refresher training, which must include at least one (1) hour of safety oversight training. FTA proposes adding refresher training developed by FTA as a second required refresher training element.

Section 672.13 Rail Transit Agency Employees and Contractors Who Are Directly Responsible for the Safety Oversight of a Rail Fixed Guideway Public Transportation System

This section establishes designation requirements for certain rail transit agency employees and contractors. FTA proposes amending existing language to provide clarity on the rail transit agency's responsibility for designating individuals and ensuring a designee's compliance with the applicable training requirements. These changes do not affect existing requirements. FTA expects SSOAs to oversee the designation of rail transit agency employees and contractors who are directly responsible for the safety oversight of a rail fixed guideway public transportation system as part of their required oversight duties established under 49 CFR part 674.

FTA proposes requiring rail transit agencies to ensure that designated personnel are enrolled in the PTSCTP within 30 days of designation. The three-year deadline for completing the applicable training requirements of part 672 and the PTSCTP curriculum will be based on the participant's PTSCTP enrollment date. With this 30-day requirement, FTA is ensuring the accurate establishment of the three-year compliance deadline for designated individuals.

FTA proposes to identify refresher training requirements for designated rail transit agency participants in a new paragraph (d). FTA proposes maintaining the existing PTSCTP refresher training requirement for refresher training defined by the rail transit agency, which must include at least one (1) hour of safety oversight training. FTA proposes adding refresher training developed by FTA as a second required refresher training element. FTA intends for SSOAs to oversee a rail transit agency's compliance with refresher training requirements as part of their required oversight duties established under 49 CFR part 674.

Section 672.15 Evaluation of Prior Certification and Training

FTA proposes revising § 672.15 to clarify existing processes regarding the evaluation of prior certification and training. If participants would like credit for a non-FTA course to meet FTA course requirements, FTA asks participants to submit an equivalency credit request form available on FTA's website (https://www.transit.dot.gov/regulations-and-guidance/safety/safety-training) via email to FTASafetyPromotion@dot.gov. These changes do not affect existing requirements.

Section 672.17 Voluntary Participants

FTA proposes adding this new section to provide clarification on existing processes related to PTSCTP voluntary participants. This section confirms FTA's classification of voluntary PTSCTP participation and what voluntary participation entails. FTA proposes to eliminate refresher training requirements previously associated with maintaining voluntary PTSCTP certification and no longer renew certification for voluntary participants. Refresher training requirements are defined for designated participants in §§ 672.11(d) and 672.13(d). If a voluntary participant has received PTSCTP certification and is subsequently designated by an SSOA or rail transit agency as a PTSCTP participant, the individual would simply need to meet the established refresher training requirements for designated PTSCTP participants within two (2) years of designation.

Subpart C—Administrative Requirements

Section 672.21 Records

FTA proposes revising § 672.21 to establish new administrative requirements for recipients subject to the requirements of the rule, including SSOAs and rail transit agencies. FTA expects to conduct PTSCTP-related communication with recipients through email (FTASafetyPromotion@dot.gov) until such time as FTA defines an alternative method for information submission.

FTA proposes revising § 672.21(a), to clarify an applicable grantee's responsibilities for ensuring its designated personnel meet the requirements established by this part. These responsibilities include ensuring designated personnel are enrolled in the PTSCTP, ensuring designated personnel complete the initial training within three years of enrollment, and ensuring designated personnel complete required refresher training every two years upon completion of the PTSCTP curriculum.

In § 672.21(b), FTA proposes requiring SSOAs and rail transit agencies to identify a single point of contact (POC) at the agency who will serve as a liaison with FTA regarding PTSCTP records. FTA expects recipients to provide FTA with standard contact information for the identified PTSCTP POC, including name, title, phone number, and email address.

In § 672.21(c), FTA proposes to add a section outlining responsibilities of the identified PTSCTP POC, including informing FTA of changes in enrolled PTSCTP participants, enrolling new PTSCTP participants, and confirming refresher training requirements and completion for participants.

In § 672.21(d), FTA proposes to add a semiannual reporting requirement for PTSCTP. FTA proposes two reporting deadlines each year, January 31 and July 31 each year. FTA proposes requiring the identified PTSCTP POC to submit a current list of individuals designated as required PTSCTP participants, a current list of individuals at the agency that are enrolled voluntarily, and the course or courses that that agency has identified as required PTSCTP refresher training. For refresher training requirement documentation, FTA proposes requiring the PTSCTP POC to report the specific name and length of each course, as well as the name of the course training provider.

In § 672.21(e), FTA proposes to clarify the existing requirement for SSOAs to submit their Technical Training Plan to FTA as part of its annual reporting requirements established at 49 CFR 674.39. FTA has also replaced the reference to “System Safety Program Plan” in appendix A of the current rule with “Agency Safety Plan” in the proposed § 672.21(e). FTA also proposes requiring training records to include the minimum passing scores for proficiency tests. This provides FTA with the parameters for passing and failing the subject proficiency test and enables FTA to interpret proficiency test scores.

Section 672.23 Availability of Records

FTA does not propose changes to this section.

Subpart D—Administrative Requirements

Section 672.31 Requirement To Certify Compliance

FTA does not propose changes to this section.

III. Regulatory Analyses and Notices

Executive Order 12866 (Regulatory Planning and Review) and Executive Order 13563 (Improving Regulation and Regulatory Review)

Executive Order 12866 (“Regulatory Planning and Review”), as supplemented by Executive Order 13563 (“Improving Regulation and Regulatory Review”), directs Federal agencies to assess the benefits and costs of regulations, to select regulatory approaches that maximize net benefits when possible, and to consider economic, environmental, and distributional effects. It also directs the Office of Management and Budget (OMB) to review significant regulatory actions, including regulations with annual economic effects of $200 million or more. OMB has determined that the proposed rule is not significant within the meaning of Executive Order 12866.

Overview and Need for Regulation

The proposed rule would add administrative and training requirements for SSOAs and rail transit agencies subject to the requirements of the PTSCTP. The rulemaking would require each agency to establish a point of contact who would enroll designated personnel and submit proof of their training. SSOAs and RTAs would also provide semiannual documentation to FTA. Finally, the rulemaking would require designated personnel to complete FTA-defined refresher training every two years.

Benefits

The proposed rule would lead to increased agency compliance with PTSCTP requirements. This analysis does not estimate benefits from increased compliance, however, because the economic analysis for the PTSCP rule that established the requirements assumed that agencies would have full compliance. Estimating benefits would therefore lead to double-counting.

The proposed rule would also lead to cost savings for FTA staff and contractors who would need to spend less time verifying that agency employees met training requirements. To estimate cost savings, FTA used time and wage estimates for Federal employees and contractors currently supporting the PTSCP program. In 2022 dollars, the rulemaking would have an estimated annual cost savings of $5,900 (table 1).

Table 1—Annual Cost Savings
[$2022]
Staff | Annual hours | Wages or rates | Cost savings
FTA program manager ¹ | 40 | $93.56 | $2,428
Contractor program manager | 12 | 179.32 | 2,152
Contractor analyst | 12 | 110.34 | 1,324
Total | 64 |  | 5,904
¹ Wages estimated for a Washington DC-based Federal employee on the General Schedule (GS) pay scale at the midpoint of the GS-13 pay grade (step 5). https://www.opm.gov/policy-data-oversight/pay-leave/salaries-wages/salary-tables/pdf/2022/DCB_h.pdf.

Costs

To estimate the costs of meeting the new requirements, FTA estimated the number of entities affected, the number and type of staff involved, and the time needed (table 2). The requirements would affect 31 SSOAs and 64 rail transit agencies in operation as of March 1, 2023.1 2

¹ Federal Transit Administration. August 3, 2022. “State Safety Oversight Contacts.” https://www.transit.dot.gov/regulations-and-guidance/safety/state-safety-oversight-contacts.

² Federal Transit Administration. 2022. “National Transit Database: 2021 Annual Database Service.” https://www.transit.dot.gov/ntd/data-product/2021-annual-database-service.

Table 2—Annual Staff and Hours Needed To Meet Requirements
Requirement | Affected entities | Annual hours | Total hours
Staff enrollment | 31 SSOAs; 64 rail transit agencies | 12 | 1,140
Point of contact identification | 31 SSOAs; 64 rail transit agencies | 2 | 190
Point of contact responsibilities | 31 SSOAs; 64 rail transit agencies | 24 | 2,280
Semi-annual reporting | 31 SSOAs; 64 rail transit agencies | 4 | 380
Refresher training | 175 SSOA employees; 439 rail transit agency employees | 4 (8 hours every 2 years) | 2,456
Total |  |  | 6,446

To estimate the value of staff time spent on the requirements, FTA used occupational wage data from the Bureau of Labor Statistics as of May 2023 in the “Transit and Ground Passenger Transportation” industry (North American Industry Classification System code 485000).³ For SSOA and rail transit agency points of contact, the closest occupational category is “General and Operations Managers” (code 11-1021). For SSOA and rail transit agency personnel completing training, the closest occupational category is “Transportation Inspectors” (code 53-6051). FTA used median hourly wages as a basis for the estimates, multiplied by 1.62 to account for employer benefits.⁴

³ Bureau of Labor Statistics. 2023. “May 2022 National Occupational Employment and Wage Estimates: United States: NAICS 485000—Transit and Ground Passenger Transportation.” https://www.bls.gov/oes/current/naics3_485000.htm.

⁴ Multiplier derived using Bureau of Labor Statistics data on employer costs for employee compensation in December 22 (https://www.bls.gov/news.release/ecec.htm). Employer costs for State and local government workers averaged $57.60 an hour, with $35.69 for wages and $21.95 for benefit costs. To estimate full costs from wages, one would use a multiplier of $57.60/$21.95, or 1.62.

Table 3—Occupational Categories and Wages Used to Value Staff Time
[$2022]
Staff | Occupational category | Code | Median hourly wage | Wage with benefits
SSOA and RTA POCs | General and Operations Managers | 11-1021 | 37.63 | 60.69
SSOA and RTA personnel | Transportation Inspectors | 53-6051 | 21.61 | 34.86
Source: Bureau of Labor Statistics, May 2022 National Occupational Employment and Wage Estimates.

The administrative and reporting requirements of the proposed rule have estimated annual costs of $318,000 (table 4). The largest annual costs are for point of contact responsibilities ($128,000) and refresher training ($86,000). FTA would also incur minimal one-time costs to develop the refresher training materials.

Table 4—Annual Costs for Administrative and Training Requirements
[$2022]
Requirement | Annual costs
Staff enrollment | $69,191
Point of contact identification | 11,532
Point of contact responsibilities | 128,337
Semi-annual reporting | 23,064
Refresher training | 85,603
Total | 317,726

Summary

Table 5 summarizes the economic effects of the proposed rule over the first ten years of the rule from 2023—the assumed effective date of the rule—to 2032 in 2022 dollars. On an annualized basis, the rule would have net costs of $334,000 at a 7 percent discount rate (discounted to 2023) and $321,000 at 3 percent.

Table 5—Summary of Economic Effects, 2023-2033
[$2022, discounted to 2023]
Item | Annualized (7%) | Annualized (3%)
Benefits:
Cost savings for FTA staff | $6,317 | $6,081
Costs:
Staff enrollment | 74,034 | 71,266
Point of contact identification | 12,339 | 11,878
Point of contact responsibilities | 137,320 | 132,187
Semi-annual reporting | 24,678 | 23,755
Refresher training | 91,596 | 88,172
Total costs | 339,967 | 327,258
Net costs | 333,650 | 321,177

Regulatory Flexibility Act

The Regulatory Flexibility Act of 1980 (RFA) (5 U.S.C. 601 et seq.) requires Federal agencies to assess the impact of a regulation on small entities unless the agency determines that the regulation is not expected to have a significant economic impact on a substantial number of small entities.

The proposed rule would require SSOAs and rail transit agencies to meet additional administrative requirements. Under the Regulatory Flexibility Act, local governments and other public-sector organizations qualify as small entities if they serve a population of less than 50,000. State agencies do not qualify, and no rail transit agency serves an urbanized area with a population of less than 50,000. FTA has therefore determined that the proposed rule would not have a significant effect on a substantial number of small entities.

Unfunded Mandates Reform Act of 1995

FTA has determined that this rulemaking does not impose unfunded mandates, as defined by the Unfunded Mandates Reform Act of 1995 (Pub. L. 104-4, March 22, 1995). This rulemaking does not include a Federal mandate that may result in the expenditure by State, local, and tribal governments, in the aggregate, or by the private sector of $100 million or more (adjusted for inflation) in any one year. Additionally, the definition of “Federal mandate” in the Unfunded Mandates Reform Act excludes financial assistance of the type in which State, local, or tribal governments have authority to adjust their participation in the program in accordance with changes made in the program by the Federal Government. The Federal Transit Act permits this type of flexibility.

Executive Order 13132 (Federalism Assessment)

Executive Order 13132 requires agencies to assure meaningful and timely input by State and local officials in the development of regulatory policies that may have a substantial direct effect on the States, on the relationship between the national government and the States, or on the distribution of power and responsibilities among the various levels of government. This action has been analyzed in accordance with the principles and criteria contained in Executive Order 13132, dated August 4, 1999, and FTA determined this action will not have a substantial direct effect or sufficient federalism implications on the States. FTA also determined this action will not preempt any State law or regulation or affect the States' ability to discharge traditional State governmental functions.

Executive Order 12372 (Intergovernmental Review)

The regulations implementing Executive Order 12372 regarding intergovernmental consultation on Federal programs and activities apply to this program.

Paperwork Reduction Act

In compliance with the Paperwork Reduction Act of 1995 (44 U.S.C. 3501 et seq.) (PRA), and the White House Office of Management and Budget's (OMB) implementing regulation at 5 CFR 1320.8(d), FTA is seeking approval from OMB for a currently approved information collection that is associated with a Notice of Proposed Rulemaking. The information collection (IC) was previously approved on October 4, 2022. However, this submission includes administrative requirements that will impact the information collected and the responding burden hours and costs to recipients.

Type of Collection: Operators of public transportation systems.

Type of Review: OMB Clearance. Previously Approved Information Collection Request.

Summary of the Collection: The information collection provides minimum training requirements for Federal and State personnel and contractors who conduct safety audits and examinations of transit systems and for transit agency personnel and contractors who are directly responsible for safety oversight to enhance the technical proficiency.

Need for and Expected Use of the Information to be Collected: Collection of information for this program is necessary to ensure FTA grantees subject to the PTSCTP regulation certify compliance with training and refresher training requirements and allow FTA to monitor ongoing PTSCTP participation and compliance. The program establishes a uniform curriculum for safety training that consists of minimum requirements to enhance the technical proficiency of transit safety personnel.

Respondents: Respondents include State Safety Oversight Agency personnel and contractors who conduct safety audits and examinations of rail transit systems, rail transit agency personnel and contractors who are directly responsible for safety oversight, and bus transit agency personnel and contractors who are directly responsible for safety oversight.

Frequency: Annual, Periodic.

National Environmental Policy Act

Federal agencies are required to adopt implementing procedures for the National Environmental Policy Act (NEPA) that establish specific criteria for, and identification of, three classes of actions: (1) Those that normally require preparation of an Environmental Impact Statement, (2) those that normally require preparation of an Environmental Assessment, and (3) those that are categorically excluded from further NEPA review (40 CFR 1507.3(b)). This rulemaking qualifies for categorical exclusions under 23 CFR 771.118(c)(4) (planning and administrative activities that do not involve or lead directly to construction). FTA has evaluated whether the rulemaking will involve unusual or extraordinary circumstances and has determined that it will not.

Executive Order 12630 (Taking of Private Property)

FTA has analyzed this rulemaking under Executive Order 12630, Governmental Actions and Interference with Constitutionally Protected Property Rights. FTA does not believe this rulemaking affects a taking of private property or otherwise has taking implications under Executive Order 12630.

Executive Order 12988 (Civil Justice Reform)

This rulemaking meets applicable standards in sections 3(a) and 3(b)(2) of Executive Order 12988, Civil Justice Reform, to minimize litigation, eliminate ambiguity, and reduce burden.

Executive Order 13045 (Protection of Children)

FTA has analyzed this rulemaking under Executive Order 13045, Protection of Children from Environmental Health Risks and Safety Risks. FTA certifies that this action will not cause an environmental risk to health or safety that might disproportionately affect children.

Executive Order 13175 (Tribal Consultation)

FTA has analyzed this rulemaking under Executive Order 13175, dated November 6, 2000, and believes that it will not have substantial direct effects on one or more Indian tribes; will not impose substantial direct compliance costs on Indian tribal governments; and will not preempt tribal laws. Therefore, a tribal summary impact statement is not required.

Executive Order 13211 (Energy Effects)

FTA has analyzed this action under Executive Order 13211, Actions Concerning Regulations That Significantly Affect Energy Supply, Distribution, or Use. FTA has determined that this action is not a significant energy action under that order and is not likely to have a significant adverse effect on the supply, distribution, or use of energy. Therefore, a Statement of Energy Effects is not required.

Executive Order 12898 (Environmental Justice)

Executive Order 12898 (Federal Actions To Address Environmental Justice in Minority Populations and Low-Income Populations) and DOT Order 5610.2(a) (77 FR 27534, May 10, 2012) (https://www.transportation.gov/transportation-policy/environmental-justice/department-transportation-order-56102a) require DOT agencies to achieve Environmental Justice (EJ) as part of their mission by identifying and addressing, as appropriate, disproportionately high and adverse human health or environmental effects, including interrelated social and economic effects, of their programs, policies, and activities on minority and low-income populations. All DOT agencies must address compliance with Executive Order 12898 and the DOT Order in all rulemaking activities. On August 15, 2012, FTA's Circular 4703.1 became effective, which contains guidance for recipients of FTA financial assistance to incorporate EJ principles into plans, projects, and activities (https://www.transit.dot.gov/regulations-and-guidance/fta-circulars/environmental-justice-policy-guidance-federal-transit).

FTA has evaluated this action under the Executive order, the DOT Order, and the FTA Circular and FTA has determined that this action will not cause disproportionately high and adverse human health and environmental effects on minority or low-income populations.

Regulation Identifier Number

A Regulation Identifier Number (RIN) is assigned to each regulatory action listed in the Unified Agenda of Federal Regulations. The Regulatory Information Service Center publishes the Unified Agenda in April and October of each year. The RIN number contained in the heading of this document can be used to cross-reference this rulemaking with the Unified Agenda.

List of Subjects in 49 CFR Part 672

Mass transportation, Reporting and recordkeeping requirements, Safety, Transportation.

Nuria I. Fernandez
Administrator.

For the reasons stated in the preamble, and under the authority of 49 U.S.C. 5329(c), 5329(f), 5334, and the delegation of authority at 49 CFR 1.91, the Federal Transit Administration proposes to revise 49 CFR part 672 as follows:

PART 672—Public Transportation Safety Certification Training Program

Sec.
Subpart A—General Provisions
673.1 Purpose.
673.3 Scope and applicability.
673.5 Definitions.
Subpart B—Training Requirements
673.11 State Safety Oversight Agency employees and contractors who conduct safety reviews, inspections, examinations, and other safety oversight activities of rail fixed guideway public transportation systems.
673.13 Rail transit agency employees and contractors who are directly responsible for the safety oversight of a rail fixed guideway public transportation system.
673.15 Evaluation of prior certification and training.
673.17 Voluntary participants.
Subpart C—Administrative Requirements
673.21 Records.
673.23 Availability of records.
Subpart D—Compliance and Certification Requirements
673.31 Requirement to certify compliance.

Authority: 49 U.S.C. 5329(c)(f), 5334; 49 CFR 1.91.

Subpart A—General Provisions

§ 672.1 Purpose.

(a) This part implements a uniform safety certification training curriculum and requirements to enhance the technical proficiency of individuals who conduct safety reviews, inspections, examinations, and other safety oversight activities of public transportation systems operated by public transportation agencies and those who are directly responsible for safety oversight of public transportation agencies.

(b) This part does not preempt any safety certification training requirements required by a State for public transportation agencies within its jurisdiction.

§ 672.3 Scope and applicability.

(a) In general, this part applies to all recipients of Federal financial assistance under 49 U.S.C. chapter 53.

(b) The requirements of this part apply only to:

(1) State Safety Oversight Agencies and their employees and contractors that conduct safety reviews, inspections, examinations, and other safety oversight activities of rail fixed guideway public transportation systems, and

(2) Rail transit agencies and their employees and contractors who are directly responsible for the safety oversight of a recipient's rail fixed guideway public transportation systems.

(c) Voluntary participants may complete the Public Transportation Safety Certification Training Program curriculum in accordance with this part.

§ 672.5 Definitions.

As used in this part:

Administrator means the Federal Transit Administrator or the Administrator's designee.

Contractor means an entity that performs tasks on behalf of FTA, a State Safety Oversight Agency, or public transportation agency through contract or other agreement.

Designated personnel means:

(1) Employees and contractors identified by a recipient whose job function is directly responsible for safety oversight of the public transportation system of the public transportation agency; or

(2) Employees and contractors of a State Safety Oversight Agency whose job function requires them to conduct reviews, inspections, examinations, and other safety oversight activities of the rail fixed guideway public transportation systems subject to the jurisdiction of the agency.

Directly responsible for safety oversight means public transportation agency personnel whose primary job function includes the development, implementation and review of the agency's safety plan, and/or the State Safety Oversight Agency (SSOA) requirements for the rail fixed guideway public transportation system pursuant to part 674 of this chapter.

Examination means a process for gathering or analyzing facts or information related to the safety of a public transportation system.

FTA means the Federal Transit Administration, an operating administration within the United States Department of Transportation.

Initial training means the group of specific courses an individual must complete within three (3) years of enrollment in the Public Transportation Safety Certification Training Program to receive their first program certificate.

Public transportation agency means an entity that provides public transportation service as defined in 49 U.S.C. 5302 and that has one or more modes of service not subject to the safety oversight requirements of another Federal agency.

Public Transportation Safety Certification Training Program curriculum means the initial training designated personnel or voluntary participants must complete to receive the Public Transportation Safety Certification Training Program certificate of completion.

Rail fixed guideway public transportation system means any fixed guideway system, or any such system in engineering or construction, that uses rail, is operated for public transportation, is within the jurisdiction of a State, and is not subject to the jurisdiction of the Federal Railroad Administration. These systems include but are not limited to rapid rail, heavy rail, light rail, monorail, trolley, inclined plane, funicular, and automated guideway.

Rail transit agency means any entity that provides services on a rail fixed guideway public transportation system.

Recipient means a State or local governmental authority, or any other operator of a public transportation system receiving financial assistance under 49 U.S.C. chapter 53.

Refresher training means the training courses or activities designated personnel must complete within two (2) years of completing the Public Transportation Safety Certification Training Program curriculum and every two (2) years thereafter.

Safety review means a review or analysis of safety records and related materials.

State means a State of the United States, the District of Columbia, Puerto Rico, the Northern Mariana Islands, Guam, American Samoa, and the Virgin Islands.

State Safety Oversight Agency means an agency established by a State that meets the requirements and performs the functions specified by 49 U.S.C. 5329(e) and the regulations set forth in part 674 of this chapter.

Voluntary participant means an individual participating in the Public Transportation Safety Certification Training Program that is not subject to the requirements of this part, including:

(1) Employees and contractors of an applicable recipient that have not been designated under § 672.11(a) or § 672.13(a), and

(2) Individuals who are not employees or contractors of an applicable recipient.

Subpart B—Training Requirements

§ 672.11 State Safety Oversight Agency employees and contractors who conduct safety reviews, inspections, examinations, and other safety oversight activities of rail fixed guideway public transportation systems.

(a) Each SSOA shall designate its employees and contractors that must comply with the applicable training requirements of this part and the Public Transportation Safety Certification Training Program (PTSCTP) curriculum. Each SSOA must designate employees and contractors who conduct reviews, inspections, examinations, and other safety oversight activities of public transportation systems, including appropriate managers and supervisors of such personnel.

(b) Each SSOA shall ensure that each designated individual is enrolled in the PTSCTP within 30 days of the individual's designation. Each SSOA shall ensure the compliance of designated participants with the applicable training requirements of this part and the PTSCTP curriculum.

(c) Employees and contractors designated under paragraph (a) of this section shall complete applicable training requirements of this part and the PTSCTP curriculum within three (3) years of their initial PTSCTP enrollment.

(d) Thereafter, upon completion of the PTSCTP curriculum, designated personnel shall complete refresher training every two (2) years. Required refresher training shall consist of two elements:

(1) Element 1: Refresher training defined by FTA, and

(2) Element 2: Refresher training defined by the SSOA, which must include, at a minimum, one (1) hour of safety oversight training.

§ 672.13 Rail transit agency employees and contractors who are directly responsible for the safety oversight of a rail fixed guideway public transportation system.

(a) Each rail transit agency shall designate its employees and contractors that must comply with the applicable training requirements of this part and the PTSCTP curriculum. Each rail transit agency must designate employees and contractors who are directly responsible for safety oversight of rail modes.

(b) Each rail transit agency shall ensure that each designated individual is enrolled in the PTSCTP within 30 days of the individual's designation. Each rail transit agency shall ensure the compliance of designated participants with the applicable training requirements of this part and the PTSCTP curriculum.

(c) Employees and contractors designated under paragraph (a) of this section shall complete applicable training requirements of this part and the PTSCTP curriculum within three (3) years of their initial PTSCTP enrollment.

(d) Thereafter, upon completion of the PTSCTP curriculum, designated personnel must complete refresher training every two (2) years. Required refresher training shall consist of two elements:

(1) Element 1: Specific refresher training defined by FTA, and

(2) Element 2: Refresher training defined by the rail transit agency, which must include, at a minimum, one (1) hour of safety oversight training.

§ 672.15 Evaluation of prior certification and training.

(a) PTSCTP participants or an identified point of contact described in § 672.21(b) may request that FTA evaluate safety training or certification previously obtained from another entity to determine if the training satisfies an applicable training requirement of this part.

(b) Individuals requesting FTA evaluation of previously obtained training or certification must provide FTA with an official transcript or certificate of the training, a description of the curriculum and competencies obtained, and a brief statement detailing how the training or certification satisfies the applicable requirements of this part. The required information must be submitted using an equivalency credit request via electronic means defined by FTA.

(c) FTA will evaluate the submission and determine if a training requirement of this part may be waived. If a waiver is granted, designated personnel are responsible for completing all other applicable requirements of this part.

§ 672.17 Voluntary participants.

(a) Individuals not subject to the requirements of this part may participate voluntarily. To receive a certificate of completion as a voluntary participant, individuals must complete the PTSCTP curriculum within three (3) years of their enrollment. Voluntary participants are not required to complete refresher training. FTA will not issue renewal certificates to voluntary participants.

(b) If a voluntary participant has received a PTSCTP certificate of completion and is subsequently designated by an SSOA or rail transit agency as a PTSCTP participant, the individual will need to complete required refresher training within two (2) years of designation.

Subpart C—Administrative Requirements

§ 672.21 Records.

(a) General requirement. Each recipient subject to the requirements of this part shall ensure that its designated personnel:

(1) Are enrolled in the PTSCTP;

(2) Complete the initial training specified in the PTSCTP curriculum within three (3) years of their enrollment as a designated participant; and

(3) Complete required refresher training every two (2) years upon completion of the PTSCTP curriculum.

(b) Point of contact identification. Each recipient subject to the requirements of this part shall identify a single point of contact for communication with FTA regarding PTSCTP information. The recipient shall provide FTA, via electronic method defined by FTA, at a minimum, the point of contact's name, title, phone number, and email address.

(c) Point of contact responsibilities. Each point of contact will serve as a liaison between the recipient and FTA to inform FTA of changes in designated personnel participating in the PTSCTP, enroll new participants, submit proof of refresher training for the recipient's designated personnel, and address any other program documentation or communications needs.

(d) Semiannual reporting. Semiannually, between January 1st and January 31st and between July 1st and July 31st of each calendar year, the identified point of contact must submit documentation to FTA, via electronic method defined by FTA, that identifies:

(1) All employees and contractors of the recipient who are designated as PTSCTP participants; and

(2) The course or courses the recipient has identified as required refresher training for their designated personnel. The agency identified refresher training must include, at a minimum, one (1) hour of safety oversight training. The documentation must include the complete name and length of each course, as well as the name of the course training provider.

(e) SSOA requirement. (1) Each SSOA shall retain a record of the technical training completed by its designated personnel in accordance with the technical training requirements of this part. SSOAs shall retain training records for at least five (5) years from the date the record is created.

(2) Each SSOA shall develop and maintain a technical training plan for designated personnel who perform reviews, inspections, examinations, and other safety oversight activities. The SSOA will submit its technical training plan to FTA for review and evaluation as part of its annual reporting to FTA as required at § 674.39 of this chapter. This review process will support the consultation required between FTA and SSOAs regarding the staffing and qualification of the designated personnel in accordance with 49 U.S.C. 5329(e)(3)(D).

(3) Each SSOA shall identify the tasks related to reviews, inspections, examinations, and other safety oversight activities requiring SSOA approval, which must be performed by the SSOA to carry out its safety oversight requirements, and identify the skills and knowledge necessary to perform each oversight task at that system. At a minimum, the technical training plan will describe the process for receiving technical training in the following competency areas appropriate to the specific rail fixed guideway public transportation system(s) for which reviews and inspections conducted:

(i) Agency organizational structure.

(ii) Agency Safety Plan.

(iii) Knowledge of agency:

(A) Territory and revenue service schedules;

(B) Current bulletins, general orders, and other associated directives that ensure safe operations;

(C) Operations and maintenance rule books;

(D) Safety rules;

(E) Standard Operating Procedures;

(F) Roadway Worker Protection;

(G) Employee Hours of Service and Fatigue Management program;

(H) Employee Observation and Testing Program (Efficiency Testing);

(I) Employee training and certification requirements;

(J) Vehicle inspection and maintenance programs, schedules and records;

(K) Track inspection and maintenance programs, schedules and records;

(L) Tunnels, bridges, and other structures inspection and maintenance programs, schedules and records;

(M) Traction power (substation, overhead catenary system, and third rail), load dispatching, inspection and maintenance programs, schedules and records; and

(N) Signal and train control inspection and maintenance programs, schedules and records.

(4) The SSOA will determine the length of time for the technical training based on the skill level of the designated personnel relative to the applicable rail transit agency(s). FTA will provide a template as requested to assist the SSOA with preparing and monitoring its technical training plan and will provide technical assistance as requested. Each SSOA technical training plan that is submitted to FTA for review will:

(i) Require designated personnel to successfully:

(A) Complete training that covers the skills and knowledge needed to effectively perform the tasks.

(B) Pass a written and/or oral examination covering the skills and knowledge required for the designated personnel to effectively perform their tasks.

(C) Demonstrate hands-on capability to perform their tasks to the satisfaction of the appropriate SSOA supervisor or designated instructor.

(ii) Establish equivalencies or written and oral examinations to allow designated personnel to demonstrate that they possess the skill and qualification required to perform their tasks.

(iii) Require biennial refresher training to maintain technical skills and abilities, which includes classroom and hands-on training, as well as testing. Observation and evaluation of actual performance of duties may be used to meet the hands-on portion of this requirement, provided that such testing is documented.

(iv) Require that training records be maintained to demonstrate the current qualification status of designated personnel assigned to carry out the oversight program. Records may be maintained either electronically or in writing and must be provided to FTA upon request.

Records must include the following information concerning each designated personnel:

(A) Name;

(B) The title and date each training course was completed, the proficiency test score(s), and the minimum passing score of the test, where applicable;

(C) The content of each training course successfully completed;

(D) A description of the designated personnel's hands-on performance applying the skills and knowledge required to perform the tasks that the employee will be responsible for performing and the factual basis supporting the determination;

(E) The tasks the designated personnel are deemed qualified to perform; and

(F) Provide the date that the designated personnel's status as qualified to perform the tasks expires, and the date in which biennial refresher training is due.

(iv) Ensure the qualification of contractors performing oversight activities. SSOAs may use demonstrations, previous training and education, and written and oral examinations to determine if contractors possess the skill and qualification required to perform their tasks.

(vi) Periodically assess the effectiveness of the technical training. One method of validation and assessment could be efficiency tests or periodic review of employee performance.

§ 672.23 Availability of records.

(a) Except as required by law, or expressly authorized or required by this part, a recipient may not release information pertaining to employees and contractors that is required by this part without the written consent of the individual.

(b) Individuals are entitled, upon written request to the recipient, to obtain copies of any records pertaining to their training required by this part. The recipient shall promptly provide the records requested by personnel and access shall not be contingent upon the recipient's receipt of payment for the production of such records.

(c) A recipient shall permit access to all facilities utilized and records compiled in accordance with the requirements of this part to the Secretary of Transportation, the Federal Transit Administration, or any State agency with jurisdiction over public transportation safety oversight of the recipient.

(d) When requested by the National Transportation Safety Board as part of an accident investigation, a recipient shall disclose information related to the training of employees and contractors.

Subpart D—Compliance and Certification Requirements

§ 672.31 Requirement to certify compliance.

(a) A recipient of FTA financial assistance under 49 U.S.C. chapter 53 that is subject to the requirements of this part as specified in § 672.3(b) shall annually certify compliance with this part in accordance with FTA's procedures for annual grant certification and assurances.

(b) A certification must be authorized by the recipient's governing board or other authorizing official and must be signed by a party specifically authorized to do so.

[FR Doc. 2023-23515 Filed 10-25-23; 8:45 am]

BILLING CODE 4910-57-P